DEPARTMENT OF HOMELAND SECURITY

Coast Guard

33 CFR Part 165

[Docket No. USCG-2019-0527]

Safety Zones; Annual Events in the Captain of the Port Detroit Zone, Fireworks

AGENCY: Coast Guard, DHS.

ACTION: Notice of enforcement of regulation.

SUMMARY: The Coast Guard will enforce a safety zone for an annual marine event in the Captain of the Port Detroit zone. Enforcement of this zone is necessary and intended to protect the safety of life on the navigable waters immediately prior to, during, and immediately after the fireworks display. During the enforcement period listed below, the Coast Guard will enforce restrictions upon, and control movement of, vessels within the safety zone. During the enforcement period, no person or vessel may enter the respective safety zone without permission of the Captain of the Port or his designated representative.

DATES: The regulation in 33 CFR 165.941, Table 1(50), will be enforced from 8:30 p.m. through 10 p.m. on July 5, 2019, and in the event of inclement weather from 8:30 p.m. through 10 p.m. on July 6, 2019.

FOR FURTHER INFORMATION CONTACT: If you have questions on this document, call or email Allie Lee, Prevention Department, telephone (419) 418-6023, email Allie.L.Lee@uscg.mil.

SUPPLEMENTARY INFORMATION: The Coast Guard will enforce Safety Zones; Annual Events in the Captain of the Port Detroit Zone listed in 33 CFR 165.941, LAZ Trommler fireworks, Table 1(50), from 8:30 p.m. through 10 p.m. on July 5, 2019, and in the event of inclement weather from 8:30 p.m. through 10 p.m. on July 6, 2019.

Entry into, transiting, or anchoring within this safety zone during the enforcement period is prohibited unless authorized by the Captain of the Port Detroit or a designated representative.

Vessels that wish to transit through the safety zone may request permission from the Captain of the Port Detroit or his designated representative. Requests must be made in advance and approved by the Captain of Port before transits will be authorized. Approvals will be granted on a case by case basis.

This notice of enforcement is issued under authority of 33 CFR 165.941 and 5 U.S.C. 552(a). In addition to this notice of enforcement in the Federal Register, the Coast Guard will provide the maritime community with advance notification of the above-specified enforcement periods of this safety zone via VHF Broadcasts and Local Notice to Mariners. If the Captain of the Port determines that this safety zones need not be enforced for the full duration stated in this document, he may suspend such enforcement and notify the public of the suspension via a Broadcast Notice to Mariners. The Captain of the Port may be contacted via U.S. Coast Guard Sector Detroit on channel 16, VHF-FM or by calling (313) 568-9564.

Dated: June 25, 2019.
Jeffrey W. Novak,
Captain, U.S. Coast Guard, Captain of the Port Detroit.

[FR Doc. 2019-13829 Filed 6-27-19; 8:45 am]

BILLING CODE 9110-04-P